DEPARTMENT OF ENERGY

Federal Energy Regulatory Commission

[Project No. 13054-000]

Nt Hydro; Notice of Application Accepted for Filing and Soliciting Comments, Protests, and Motions To Intervene

January 30, 2008.

Take notice that the following hydroelectric application has been filed with the Commission and is available for public inspection:

a. Type of Application: Preliminary Permit.

b. Project No.: 13054-000.

c. Date filed: October 22, 2007.

d. Applicant: NT Hydro.

e. Name and Location of Project: The proposed Abert Rim Pumped Storage Hydroelectric Project would be located in Lake County, Oregon and would utilize the existing Mule Lake and Lake Albert, both located on U.S. Bureau of Land Management (BLM) land.

f. Filed Pursuant to: Federal Power Act, 16 U.S.C. 791(a)-825(r).

g. Applicant contact: Mr. Ted Sorenson, Sorenson Engineering, 5203 South 11th, East Idaho Falls, ID 83404, (208) 522-8069.

h. FERC Contact: Tom Papsidero, (202) 502-6002.

i. Deadline for filing comments, protests, and motions to intervene: 60 days from the issuance date of this notice.

All documents (original and eight copies) should be filed with: Kimberly D. Bose, Secretary, Federal Energy Regulatory Commission, 888 First Street, NE., Washington, DC 20426. Comments, protests and interventions may be filed electronically via the Internet in lieu of paper; see 18 CFR 385.2001(a)(1)(iii) and the instructions on the Commission's Web site under the “e-Filing” link. The Commission strongly encourages electronic filings. Please include the project number (P-13054-000) on any comments or motions filed.

The Commission's Rules of Practice and Procedure require all intervenors filing documents with the Commission to serve a copy of that document on each person in the official service list for the project. Further, if an intervenor files comments or documents with the Commission relating to the merits of an issue that may affect the responsibilities of a particular resource agency, they must also serve a copy of the document on that resource agency.

j. Description of Existing Facilities and Proposed Project: The proposed Abert Rim Pumped Storage Project will consist of the existing Mule Lake, which is an existing small lake, and Lake Abert, which is an existing alkali lake. Both water bodies are located on BLM lands. Under the proposed project, Mule Lake Reservoir and Lake Abert will be connected by a 6,200 foot-long pipeline consisting of two eight-foot-diameter steel pipes with a hydraulic capacity of approximately 700 cubic feet per second (cfs) each. The pipeline will include a 6,200-foot-long tunnel immediately below Abert Rim Wilderness Study Area. A powerhouse/pumphouse will be located near the shore of Lake Abert, containing two 67 megawatt (MW)/700 cfs pump-turbines, and appurtenant facilities. The powerhouse/pumphouse would be a metal building with a concrete foundation, approximately 120-foot-wide by 60-foot-long and 30-foot-high.

Mule Lake, which stores runoff from intermittent streams, has a normal maximum water surface elevation of approximately 5,605 feet above sea level (ASL). USGS topographic data indicate that Mule Lake occurs within a closed basin, with no outlet streams. Currently, Mule Lake has an approximate storage capacity of 1,600 acre-feet. Under the proposed project, storage in Mule Lake would be increased to about 4,000 acre-feet by increasing the lake level 20 feet. Because Mule Lake is in a closed basin, no new dam would be required to increase the lake level and storage. Lake Abert, which receives water from Chewaucan River, various springs and intermittent runoff streams, has a normal maximum water surface elevation of approximately 4,254 feet ASL. Currently, water entering Lake Abert remains in Lake Abert until it evaporates, i.e. Lake Abert occurs within a closed topographic basin with no outlets. Lake Abert has an approximate storage capacity of 400,000 acre-feet.

A new 45-mile-long 128-kV transmission line will be constructed to interconnect the proposed project with an existing Bonneville Power Administration 500-kV, AC transmission line located northwest of Lake Abert. This interconnection will link the proposed project with the both the California-Nevada and Pacific Northwest power grids. A new substation would be constructed at the point of interconnection. The proposed project would have an annual generation of 489.1 GWh.

k. Location of Applications: A copy of the application is available for inspection and reproduction at the Commission in the Public Reference Room or may be viewed on the Commission's Web site at http://www.ferc.gov using the “eLibrary” link. Enter the docket number excluding the last three digits in the docket number field to access the document. For assistance, call toll-free 1-866-208-3676 or e-mail FERCOnlineSupport@ferc.gov. For TTY, call (202) 502-8659. A copy is also available for inspection and reproduction at the address in item g above.

l. Individuals desiring to be included on the Commission's mailing list should so indicate by writing to the Secretary of the Commission.

m. Competing Preliminary Permit—Anyone desiring to file a competing application for preliminary permit for a proposed project must submit the competing application itself, or a notice of intent to file such an application, to the Commission on or before the specified comment date for the particular application (see 18 CFR 4.36). Submission of a timely notice of intent allows an interested person to file the competing preliminary permit application no later than 30 days after the specified comment date for the particular application. A competing preliminary permit application must conform with 18 CFR 4.30(b) and 4.36.

n. Competing Development Application—Any qualified development applicant desiring to file a competing development application must submit to the Commission, on or before a specified comment date for the particular application, either a competing development application or a notice of intent to file such an application. Submission of a timely notice of intent to file a development application allows an interested person to file the competing application no later than 120 days after the specified comment date for the particular application. A competing license application must conform with 18 CFR 4.30(b) and 4.36.

o. Notice of Intent—A notice of intent must specify the exact name, business address, and telephone number of the prospective applicant, and must include an unequivocal statement of intent to submit, if such an application may be filed, either a preliminary permit application or a development application (specify which type of application). A notice of intent must be served on the applicant(s) named in this public notice.

p. Proposed Scope of Studies under Permit—A preliminary permit, if issued, does not authorize construction. The term of the proposed preliminary permit would be 36 months. The work proposed under the preliminary permit would include economic analysis, preparation of preliminary engineering plans, and a study of environmental impacts. Based on the results of these studies, the Applicant would decide whether to proceed with the preparation of a development application to construct and operate the project.

q. Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

r. Filing and Service of Responsive Documents—Any filings must bear in all capital letters the title “COMMENTS”, “NOTICE OF INTENT TO FILE COMPETING APPLICATION”, “COMPETING APPLICATION”, “PROTEST”, or “MOTION TO INTERVENE”, as applicable, and the Project Number of the particular application to which the filing refers. Any of the above-named documents must be filed by providing the original and the number of copies provided by the Commission's regulations to: The Secretary, Federal Energy Regulatory Commission, 888 First Street, NE., Washington, DC 20426. An additional copy must be sent to Director, Division of Hydropower Administration and Compliance, Federal Energy Regulatory Commission, at the above-mentioned address. A copy of any notice of intent, competing application or motion to intervene must also be served upon each representative of the Applicant specified in the particular application.

s. Agency Comments—Federal, state, and local agencies are invited to file comments on the described application. A copy of the application may be obtained by agencies directly from the Applicant. If an agency does not file comments within the time specified for filing comments, it will be presumed to have no comments. One copy of an agency's comments must also be sent to the Applicant's representatives.

Kimberly D. Bose,
Secretary.

[FR Doc. E8-2117 Filed 2-5-08; 8:45 am]

BILLING CODE 6717-01-P